ENVIRONMENTAL PROTECTION AGENCY

40 CFR Part 52

[EPA-R09-OAR-2014-0711; FRL-9917-80-Region 9]

Approval and Promulgation of Implementation Plans; Revisions to the Nevada State Implementation Plan; Stationary Source Permits

AGENCY: Environmental Protection Agency (EPA).

ACTION: Proposed rule.

SUMMARY: The Environmental Protection Agency (EPA) is proposing to approve revisions to the applicable state implementation plan for the State of Nevada submitted by the Nevada Division of Environmental Protection. The revisions include amended State rules related to applications for, and issuance of, permits for stationary sources, but not including review and permitting of major sources and major modifications under parts C and D of title I of the Clean Air Act. EPA is taking action under the Clean Air Act obligation to take action on State submittals of revisions to state implementation plans. The intended effect of the proposed approval is to fix deficiencies in the previously-approved version of the permitting rules and to ensure that new or modified stationary sources do not interfere with attainment or maintenance of the national ambient air quality standards.

DATES: Any comments must arrive by November 20, 2014.

ADDRESSES: Submit comments, identified by docket number EPA-R09-OAR-2014-0711, by one of the following methods:

1. Federal eRulemaking Portal: www.regulations.gov. Follow the on-line instructions.

2. Email: R9airpermits@epa.gov.

3. Mail or deliver: Laura Yannayon (AIR-3), U.S. Environmental Protection Agency Region IX, 75 Hawthorne Street, San Francisco, CA 94105-3901.

Instructions: All comments will be included in the public docket without change and may be made available online at www.regulations.gov, including any personal information provided, unless the comment includes Confidential Business Information (CBI) or other information whose disclosure is restricted by statute. Information that you consider CBI or otherwise protected should be clearly identified as such and should not be submitted through www.regulations.gov or email. www.regulations.gov is an “anonymous access” system, and EPA will not know your identity or contact information unless you provide it in the body of your comment. If you send email directly to EPA, your email address will be automatically captured and included as part of the public comment. If EPA cannot read your comment due to technical difficulties and cannot contact you for clarification, EPA may not be able to consider your comment. Electronic files should avoid the use of special characters, any form of encryption, and be free of any defects or viruses.

Docket: The index to the docket for this action is available electronically at www.regulations.gov and in hard copy at EPA Region IX, 75 Hawthorne Street, San Francisco, California. While all documents in the docket are listed in the index, some information may be publicly available only at the hard copy location (e.g., copyrighted material), and some may not be publicly available in either location (e.g., CBI). To inspect the hard copy materials, please schedule an appointment during normal business hours with the contact listed in the FOR FURTHER INFORMATION CONTACT section.

FOR FURTHER INFORMATION CONTACT: Laura Yannayon, EPA Region IX, 75 Hawthorne Street (AIR-3), San Francisco, CA 94105, phone number (415) 972-3534 or by email at yannayon.laura@epa.gov.

SUPPLEMENTARY INFORMATION: This proposal addresses revisions to the Nevada State Implementation Plan (SIP) that were submitted by the Nevada Division of Environmental Protection (NDEP) on January 3, 2014 and June 5, 2014. The revisions include the following amended rules that relate to the State of Nevada's minor source NSR program:

Table 1—NSR Rules Submitted by NDEP
Submitted rule | Title | Amended date | Submittal date
NAC 445B.22097 | Standards of quality for ambient air | 05/02/14 | 06/05/14
NAC 445B.308 | Prerequisites and conditions for issuance of certain operating permits; compliance with applicable state implementation plan | 12/04/13 | 01/03/14
NAC 445B.311 | Environmental evaluation: Contents; consideration of good engineering practice stack height | 05/02/14 | 06/05/14

In the Rules and Regulations section of this Federal Register, we are approving the amended NSR rules listed above as revisions to the Nevada SIP in a direct final action without prior proposal because we believe the SIP revisions are not controversial. If we receive adverse comments, however, we will publish a timely withdrawal of the direct final rule and address the comments in subsequent action based on this proposed rule. Please note that if we receive adverse comment on an amendment, paragraph, or section of this rule and if that provision may be severed from the remainder of the rule, we may adopt as final those provisions of the rule that are not the subject of an adverse comment.

We do not plan to open a second comment period, so anyone interested in commenting should do so at this time. If we do not receive adverse comments, no further activity is planned. For further information, please see the direct final action.

List of Subjects in 40 CFR Part 52

Environmental protection, Air pollution control, Incorporation by reference, Intergovernmental relations, Lead, Particulate matter, Reporting and recordkeeping requirements, Sulfur oxides.

Authority: 42 U.S.C. 7401 et seq.

Dated: September 29, 2014.
Alexis Strauss,
Acting Regional Administrator, Region IX.

[FR Doc. 2014-24468 Filed 10-20-14; 8:45 am]

BILLING CODE 6560-50-P